COMMITTEE FOR THE IMPLEMENTATION OF TEXTILE AGREEMENTS

Request for Public Comment on a Commercial Availability Request Under the United States-Mexico-Canada Agreement

AGENCY: Committee for the Implementation of Textile Agreements.

ACTION: Notice; request for public comments.

SUMMARY: On February 20, 2024, the Government of the United States (“United States”) received a request from the Government of Canada (“Canada”) to initiate consultations under Article 6.4.1 of the United States-Mexico-Canada Agreement (“USMCA”). Canada is requesting that the United States and Mexico (with Canada, collectively “the Parties”) consider changing the rules of origin for certain end-use fabrics used in the production of fire hose based on the lack of commercial availability for certain high-tenacity polyester yarns in the territories of the Parties. The yarns are described as high-tenacity polyester yarn, single or multiple, multifilament, untwisted, untextured, and measuring more than 920 decitex, used in the production of fire hose, with or without lining, armor or accessories of other materials. The President of the United States may proclaim a modification to the USMCA rules of origin for textile and apparel products if the United States reaches an agreement with Canada and Mexico on a modification under Article 6.4.3 of the USMCA to address issues of availability of supply of fibers, yarns, or fabrics in the territories of the Parties. The President authorized, in Presidential Proclamation 10053 (July 1, 2020), the Committee for the Implementation of Textile Agreements (“CITA”) to review requests for modifications to a rule of origin for textile and apparel goods based on a change in the availability of the textile or apparel good in the territory of the Parties, and to make a recommendation as to whether a requested modification is warranted. CITA hereby solicits public comments on this request to modify the USMCA rules of origin, particularly regarding whether certain high-tenacity polyester yarns used in the production of fire hose can be supplied by the U.S. domestic industry in commercial quantities in a timely manner.

DATES: Comments must be submitted by May 24, 2024.

ADDRESSES: Submit public comments electronically to the Chairman, Committee for the Implementation of Textile Agreements at OTEXA.USMCA@trade.gov. Please see the instructions below for information on other means of submission and/or the submission of comments containing business confidential information.

FOR FURTHER INFORMATION CONTACT: Laurie Mease, Office of Textiles and Apparel (“OTEXA”), U.S. Department of Commerce, Laurie.Mease@trade.gov or (202) 482-2043.

For Further Information Online: https://www.trade.gov/fta-commercial-availability-usmca.

SUPPLEMENTARY INFORMATION:

Authority: Article 6.4 of the USMCA; Section 103(c)(5)(B)(ii) of the United States-Mexico-Canada Agreement Implementation Act (“USMCA Implementation Act”); Executive Order 11651 of March 3, 1972, as amended; Presidential Proclamation 10053 of July 1, 2020 (85 FR 39826).

Background: Under the USMCA, the Parties are required to eliminate customs duties on textile and apparel goods that qualify as originating goods under the USMCA rules of origin, which are set out in Annex 4-B of the USMCA. Article 6.4.1 of the USMCA provides that, on the request of a Party, the Parties shall consult to consider whether the rules of origin applicable to a particular textile or apparel good should be revised to address issues of availability of supply of fibers, yarns, or fabrics in the territories of the Parties. In the consultations, pursuant to Article 6.4.2 of the USMCA, each Party shall consider the data presented by the other Parties demonstrating substantial production in its territory of a particular fiber, yarn, or fabric. The Parties shall consider that there is substantial production if a Party demonstrates that its domestic producers are capable of supplying commercial quantities of the fiber, yarn, or fabric in a timely manner.

The USMCA Implementation Act provides the President with the authority to proclaim, as part of the Harmonized Tariff Schedule of the United States, such modifications to the USMCA rules of origin set out in Annex 4-B of the USMCA as are necessary to implement an agreement with Canada and Mexico under Article 6.4.3 of the USMCA, subject to the consultation and layover requirements of Section 104 of the USMCA Implementation Act. (See section 103(c)(5)(B)(ii) of the United States-Mexico-Canada Agreement Implementation Act, Pub. L. 116-113.)

Executive Order 11651 established CITA to supervise the implementation of textile trade agreements and authorizes the Chairman of CITA to take actions or recommend that appropriate officials or agencies of the United States take actions necessary to implement textile trade agreements. (See 37 FR 4699 (March 3, 1972), reprinted as amended in 7 U.S.C. 1854 note.). The President authorized CITA to “review requests for modifications to a rule of origin for textile and apparel goods based on a change in the availability in the territories of the [Parties] of a particular fiber, yarn, or fabric” and to recommend to the President “whether a requested modification to a rule of origin for a textile good based on a change in the availability of a particular fiber, yarn, or fabric is warranted” in Presidential Proclamation 10053.

The President may use this recommendation from CITA as part of the consultations with the Parties regarding the proposed change to the USMCA rules of origin.

On February 20, 2024, Canada submitted a request to the United States and Mexico to consult on whether the USMCA rule of origin for certain end-use fabrics for use in fire hose should be modified to allow the use of certain high-tenacity polyester yarns that are not originating under the USMCA. The yarns subject to this request and their specific end uses are described below.

Input product description | Input product classification, harmonized tariff schedule of the U.S. (HTSUS) | End use product description | End-use product classification (HTSUS)
High-tenacity polyester yarn, single or multiple, multifilament, untwisted, untextured, and measuring more than 920 decitex | 5402.20 | Fire hose, with or without lining, armor or accessories of other materials | 5909

CITA is soliciting public comments on this request, particularly with respect to whether the yarns described above can be supplied by the U.S. domestic industry in commercial quantities in a timely manner. If a comment alleges that the yarn described above can be supplied by a U.S. supplier in commercial quantities in a timely manner, OTEXA, which provides staff support to CITA, will closely review any supporting documentation, such as a signed statement by a manufacturer of the yarn stating that it produces the yarn that is the subject of this request, information on quantities that can be supplied and the time necessary to fill an order, as well as any relevant information on past production.

Complete comments, including any attachments and submissions containing confidential business information (CBI), must be received no later than May 24, 2024.

Interested persons are invited to submit comments not containing CBI electronically to the Chairman of the Committee for the Implementation of Textile Agreements at OTEXA.USMCA@trade.gov. If interested persons are unable to submit comments electronically, please contact Laurie Mease at Laurie.Mease@trade.gov or 202-482-2043 for instructions on other means of submission.

For those seeking to submit comments with CBI for government use only, please clearly mark such submissions as CBI and submit an accompanying version redacting the CBI to be made public. Submissions containing CBI may be submitted electronically through the Department of Commerce's secure online file sharing tool. Access to the secure electronic system will be by invitation only. Interested persons planning to file a submission containing CBI should contact Laurie Mease at Laurie.Mease@trade.gov for instructions before submitting any documents (either public or confidential versions) to CITA.

CITA will protect any information that is marked business confidential from disclosure to the full extent permitted by law. Information marked as business confidential will be shared with OTEXA staff tasked with reviewing responses to this request for comment, and may be shared with CITA members, at the request of the CITA member, as they consider making a recommendation with respect to a modification of the USMCA rules of origin. CBI will not be shared with representatives of the Governments of Canada and Mexico during consultation among the Parties as they consider whether to modify the USMCA rules of origin, as discussed above.

Public versions of all comments received will be posted on OTEXA's website for commercial availability proceedings under the USMCA: https://www.trade.gov/fta-commercial-availability-usmca.

Jennifer Knight,
Chairman, Committee for the Implementation of Textile Agreements.

[FR Doc. 2024-08691 Filed 4-23-24; 8:45 am]

BILLING CODE 3510-DR-P